FEDERAL COMMUNICATIONS COMMISSION

[GN Docket No. 18-122, DA 20-828; FRS 16982]

Wireless Telecommunications Bureau Seeks Comment on Whether Proposed 3.7-4.2 GHz Band Relocation Payment Clearinghouse Satisfies Selection Criteria

AGENCY: Federal Communications Commission.

ACTION: Notice.

SUMMARY: In this document, the Wireless Telecommunications Bureau (Bureau) seeks comment on whether the proposed 3.7-4.2 GHz band Relocation Payment Clearinghouse satisfies the selection criteria established by the Commission in the 3.7 GHz Report and Order.

DATES: Comments are due August 18, 2020 and reply comments are due August 28, 2020.

ADDRESSES: You may submit comments, identified by GN Docket No. 18-122, by any of the following methods:

• Electronic Filers: Elections may be filed electronically using the internet by accessing the ECFS: http://apps.fcc.gov/ecfs/ in docket number GN 18-122.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.U.S.

• Postal Service first-class, Express, and Priority mail must be addressed to 445 12th Street SW, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

• During the time the Commission's building is closed to the general public and until further notice, if more than one docket or rulemaking number appears in the caption of a proceeding, paper filers need not submit two additional copies for each additional docket or rulemaking number; an original and one copy are sufficient.

FOR FURTHER INFORMATION CONTACT: Susan Mort, Wireless Telecommunications Bureau, at Susan.Mort@fcc.gov or 202-418-2429.

SUPPLEMENTARY INFORMATION: This is a summary of the Commission's document (Public Notice), GN Docket No. 18-122, DA 20-828, released on August 3, 2020. The complete text of this document is available on the Commission's website at https://www.fcc.gov/document/wtb-seeks-comment-c-band-relocation-payment-clearinghouse-selection or by using the search function for GN Docket No. 18-122 on the Commission's ECFS web page at www.fcc.gov/ecfs.

Pursuant to §§ 1.415 and 1.419 of the Commission's rules, 47 CFR 1.415, 1.419, interested parties may file comments or reply comments on or before the dates indicated on the first page of this document.

People with Disabilities: To request materials in accessible formats for people with disabilities (braille, large print, electronic files, audio format), send an email to fcc504@fcc.gov or call the Consumer & Governmental Affairs Bureau at 202-418-0530 (voice), 202-418-0432 (tty).

Synopsis

With this Public Notice, the Wireless Telecommunications Bureau (the Bureau) seeks comment on whether the proposed 3.7-4.2 GHz band Relocation Payment Clearinghouse (Clearinghouse) satisfies the selection criteria established by the Commission in the 3.7 GHz Report and Order.

On March 3, 2020, the Commission released the 3.7 GHz Band Report and Order, which adopted new rules to make available 280 megahertz of mid-band spectrum for flexible use through a Commission-administered public auction of overlay licenses, plus a 20 megahertz guard band, throughout the contiguous United States by transitioning existing services out of the lower portion and in to the upper 200 megahertz of the C-band.

The 3.7 GHz Report and Order established a search committee to select a Clearinghouse that would be responsible for handling all cost-related aspects of the transition. The 3.7 GHz Report and Order required the search committee to select, no later than July 31, 2020, an entity that must be able to demonstrate its ability to perform the duties of the Clearinghouse, including: (1) Engaging in strategic planning and adopting goals and metrics to evaluate its performance, (2) adopting internal controls for its operations, (3) using enterprise risk management practices, and (4) using best practices to protect against improper payments and to prevent fraud, waste, and abuse in its handling of funds. The Commission also required that the selected entity create written procedures for its operations and that it use the Government Accountability Office's (GAO) Green Book to serve as a guide in satisfying such requirements.

The 3.7 GHz Report and Order required the search committee to ensure that the Clearinghouse adopt robust privacy and data security best practices in its operations, given that it will receive and process information critical to ensuring a successful and expeditious transition. The selected entity will be required to hire a third-party firm to independently audit and verify, on an annual basis, the Clearinghouse's compliance with privacy and information security requirements. The Clearinghouse will also be required to: Provide recommendations based on any audit findings; correct any negative audit findings and adopt any additional practices suggested by the auditor; and report the results to the Bureau.

The Commission also required the search committee, in notifying the Commission of its selection for the Clearinghouse, to: (a) Fully disclose any actual or potential organizational or personal conflicts of interest or appearance of such conflict of interest of the Clearinghouse or its officers, directors, employees, and/or contractors; and (b) detail the salary and benefits associated with each position.

On July 31, 2020, the search committee announced that they had selected CohnReznick and subcontractors Squire Patton Boggs (US) LLP (Squire Patton Poggs), and Intellicom Technologies, Inc. (Intellicom), to serve as the Clearinghouse. We seek comment on whether CohnReznick, Squire Patton Boggs, and Intellicom satisfy the criteria established by the Commission in the 3.7 GHz Report and Order.

As directed by the Commission in the 3.7 GHz Report and Order, following the comment period, the Bureau will issue an order announcing whether the selection criteria have been satisfied. Should the Bureau be unable to find that the criteria have been satisfied, the 3.7 GHz Report and Order required that the selection process will start over and the search committee will submit a new proposed entity.

Federal Communications Commission.
Amy Brett,
Chief of Staff, Competition and Infrastructure Policy Division, Wireless Telecommunications Bureau.

[FR Doc. 2020-17292 Filed 8-6-20; 8:45 am]

BILLING CODE 6712-01-P